DEPARTMENT OF THE INTERIOR

National Park Service

Official Trail Marker for the Potomac Heritage National Scenic Trail

AGENCY: National Park Service, Interior.

ACTION: Official Insignia, Designation.

Authority: National Trails System Act, 16 U.S.C. 124(a) and 1246(c) and Protection of Official Badges, Insignia, etc. in 18 U.S.C. 701.

SUMMARY: This notice issues the official trail market insignia of the Potomac Heritage National Scenic Trail. The insignia for this trail was completed June 2001. This publication accomplishes the official designation of the insignia now in use by the National Park Service.

SUPPLEMENTARY INFORMATION: The primary author of this document is Donald E. Briggs, Superintendent, Potomac Heritage National Scenic Trail

The insignia depicted below is prescribed as the official trail market logo for the Potomac Heritage National Scenic Trail, administered by the National Park Service. Authorization for use of this trail marker is controlled by the administrator of the Trail.

In making this prescription, notice is hereby given that whoever manufactures, sells, or possesses this insignia or any colorable imitation thereof, or photographs or prints or in any other manner makes or executes any engraving, photograph or print, or impression in the likeness of this insignia, or any colorable imitation thereof, without written authorization from the United States Department of the Interior is subject to the penalty provisions of section 701 of Title 18 of the United States Code.

FOR FURTHER INFORMATION CONTACT: Donald E. Briggs, Superintendent, Potomac Heritage National Scenic Trail, National Park Service, Post Office Box B, Harpers Ferry, WV 25425, 304-535-4014.

Dated: August 1, 2001.
Donald E. Briggs,
Superintendent, Potomac Heritage National Scenic Trail.

[FR Doc. 01-26893 Filed 10-24-01; 8:45 am]

BILLING CODE 4310-70-P